DEPARTMENT OF ENERGY

Federal Energy Regulatory Commission

[Project No. 372]

Southern California Edison Company; Notice of Teleconference

April 17, 2002.

a. Date and time of Teleconference: Thursday, May 2, 2002, 1 p.m..

b. FERC Contact: Nan Allen at 202-219-2938, nan.allen@ferc.gov.

c. Purpose of the Teleconference: A teleconference will be convened by Commission staff to discuss measures proposed by the Southern California Edison Company (SCE) to protect the federally-listed, threatened bald eagle and valley elderberry longhorn beetle. SCE has applied for a new license to operate the Lower Tule River Hydroelectric Project, FERC No. 372, Tulare County, California.

d. Proposed Agenda: (1) Introduction; (2) Recognition of Participants; (3) Teleconference Procedures; (4) SCE's proposed measures; and (5) Follow-up actions.

e. Only the U.S. Fish and Wildlife Service and the Commission are consulting parties for purposes of the teleconference. However, the license applicant and other interested parties to the relicensing proceeding will be permitted to provide relevant information, consistent with the limited purpose of the teleconference.

Any party wishing to participate in the teleconference should contact Nan Allen, 202-219-2938 or nan.allen@ferc.gov, by April 26, 2002.

Magalie R. Salas,
Secretary.

[FR Doc. 02-9903 Filed 4-22-02; 8:45 am]

BILLING CODE 6717-01-P